ENVIRONMENTAL PROTECTION AGENCY

[EPA-HQ-OARM-2011-0748; FRL-9924-62-OEI]

Information Collection Request Submitted to OMB for Review and Approval; Comment Request; Monthly Progress Reports (Renewal)

AGENCY: Environmental Protection Agency (EPA).

ACTION: Notice.

SUMMARY: The Environmental Protection Agency has submitted an information collection request (ICR), “Monthly Progress Reports (Renewal)” (EPA ICR No. 1039.14, OMB Control No. 2030-0005) to the Office of Management and Budget (OMB) for review and approval in accordance with the Paperwork Reduction Act (44 U.S.C. 3501 et seq.). This is a proposed extension of the ICR, which is currently approved through May 31, 2015. Public comments were previously requested via the Federal Register (80 FR 6703) on February 6, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before May 28, 2015.

ADDRESSES: Submit your comments, referencing Docket ID Number EPA-HQ-OARM-2011-0748, to (1) EPA online using www.regulations.gov (our preferred method), by email to oei.docket@epa.gov, or by mail to: EPA Docket Center, Environmental Protection Agency, Mail Code 28221T, 1200 Pennsylvania Ave., NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Thomas Valentino, Policy Training and Oversight Division, Office of Acquisition Management, (3802R), Environmental Protection Agency, 1200 Pennsylvania Ave., NW., Washington, DC 20460; telephone number: 202-564-4522; email address: valentino.thomas@epa.gov.

SUPPLEMENTARY INFORMATION:

Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Abstract: Government surveillance of contractor performance is required to give reasonable assurance that efficient methods and effective cost controls are being used for various cost-reimbursable and fixed-rate contracts. Per 48 CFR 1552.211 regulations, the Agency on a monthly basis requires contractors to provide the Contracting Officer's Representative (COR) with a report detailing: a) what was accomplished on the contract for that period, b) expenditures for the same period of time, and c) what is expected to be accomplished on the contract for the next month. Responses to the information collection are mandatory for contractors and are required for the contractors to receive monthly payments.

Form Numbers: 1900-68.

Respondents/affected entities: Private contractors.

Respondent's obligation to respond: Mandatory (48 CFR 1552.211).

Estimated number of respondents: 266 (total).

Frequency of response: Monthly.

Total estimated burden: 77,406 hours (per year). Burden is defined at 5 CFR 1320.03(b)

Total estimated cost: $7,207,568 (per year), includes $39,900 annualized capital or operation & maintenance costs.

Changes in the Estimates: There is an increase of 16,506 hours in the total estimated respondent burden compared with the ICR currently approved by OMB. This is due to an increase in the number of contracts that are being awarded.

Courtney Kerwin,
Acting Director, Collection Strategies Division.

[FR Doc. 2015-09837 Filed 4-27-15; 8:45 am]

BILLING CODE 6560-50-P